DEPARTMENT OF HEALTH AND HUMAN SERVICES

National Institutes of Health

Office of the Secretary; Notice of Meeting

Pursuant to section 10(a) of the Federal Advisory Committee Act, as amended, notice is hereby given of a meeting of the Task Force on Research Specific to Pregnant Women and Lactating Women.

The meeting will be open to the public and held as a virtual meeting. Individuals who plan to view the virtual meeting and need special assistance or other reasonable accommodations to view the meeting, should notify the Contact Person listed below in advance of the meeting.

Name of Committee: Task Force on Research Specific to Pregnant Women and Lactating Women (PRGLAC).

Date: June 24, 2020, 3:00 p.m. to 5:00 p.m. (EDT).

Place: Eunice Kennedy Shriver National Institute of Child Health and Human Development/NIH, 31 Center Drive, MSC 2425, Building 31, Room 2A03, Bethesda, MD 20892 (Virtual Meeting).

Agenda: The Task Force is charged with providing advice and guidance to the Secretary of HHS regarding Federal activities related to identifying and addressing gaps in knowledge and research regarding safe and effective therapies for pregnant women and lactating women, including the development of such therapies and the collaboration on and coordination of such activities. The Task Force will be discussing implementation steps to carry out the recommendations made in the 2018 PRGLAC Report to the Secretary.

Contact Person: Lisa Kaeser, Executive Secretary, Office of Legislation and Public Policy, Eunice Kennedy Shriver National Institute of Child Health and Human Development, 31 Center Drive, MSC 2425, Building 31, Room 2A03, Bethesda, MD 20892, (301) 496-0536, kaeserl@mail.nih.gov.

Registration: Attendees should register prior to the meeting by going to the following: https://nih.webex.com/nih/onstage/g.php?MTID=e7c4f50704d72bbe20584c279a3ec07b5. Password: NICHD.

Details and additional information about this meeting, prior meetings, and the Task Force's 2018 Report and Recommendations can be found on the NICHD website for the Task Force on Research Specific to Pregnant Women and Lactating Women: https://www.nichd.nih.gov/about/advisory/PRGLAC.

Any interested person may file written comments with the committee by forwarding the statement to the Contact Person listed on this notice. The statement should include the name, address, telephone number and when applicable, the business or professional affiliation of the interested person.

Dated: May 29, 2020.
Ronald J. Livingston, Jr.,
Program Analyst, Office of Federal Advisory Committee Policy.

[FR Doc. 2020-11980 Filed 6-2-20; 8:45 am]

BILLING CODE 4140-01-P